DEPARTMENT OF COMMERCE

International Trade Administration

[A-533-912, C-533-913]

Certain Non-Refillable Steel Cylinders From India: Antidumping Duty and Countervailing Duty Orders

AGENCY: Enforcement and Compliance, International Trade Administration, Department of Commerce.

SUMMARY: Based on affirmative final determinations by the U.S. Department of Commerce (Commerce) and the U.S. International Trade Commission (ITC), Commerce is issuing antidumping duty (AD) and countervailing duty (CVD) orders on certain non-refillable steel cylinders (steel cylinders) from India.

DATES: Applicable June 13, 2024.

FOR FURTHER INFORMATION CONTACT: Shane Subler (CVD), Rachel Accorsi (CVD), Benito Ballesteros (AD), or Samuel Evans (AD), AD/CVD Operations, Offices VIII and IX, Enforcement and Compliance, International Trade Administration, U.S. Department of Commerce, 1401 Constitution Avenue NW, Washington, DC 20230; telephone: (202) 482-6241, (202) 482-3149, (202) 482-7425, or (202) 482-2420, respectively.

SUPPLEMENTARY INFORMATION:

Background

In accordance with section 705(d) of the Tariff Act of 1930, as amended (the Act), on April 22, 2024, Commerce published its affirmative final determination that countervailable subsidies are being provided to producers and exporters of steel cylinders from India.¹ Also on April 22, 2024, in accordance with section 735(d) of the Act, Commerce published its affirmative final determination in the less-than-fair-value (LTFV) investigation of steel cylinders from India.²

¹ See Certain Non-Refillable Steel Cylinders from India: Final Affirmative Countervailing Duty Determination, 89 FR 29296 (April 22, 2024) (CVD Final Determination), and accompanying Issues and Decision Memorandum (IDM).

² See Final Affirmative Determination in the Less-Than-Fair-Value Investigation of Certain Non-Refillable Steel Cylinders from India, 89 FR 29294 (April 22, 2024), and accompanying IDM.

On June 6, 2024, pursuant to sections 705(d) and 735(d) of the Act, the ITC notified Commerce of its final affirmative determinations that an industry in the United States is materially injured by reason of subsidized imports of steel cylinders from India within the meaning of section 705(b)(1)(A)(i) of the Act and LTFV imports of steel cylinders from India within the meaning of section 735(b)(1)(A)(i) of the Act.³

³ See ITC's Letter, “Notification of ITC Final Determinations,” dated June 6, 2024 (ITC Notification Letter).

Scope of the Orders

The products covered by these orders are steel cylinders from India. For a complete description of the scope of the orders, see the appendix to this notice.

AD Order

On June 6, 2024, in accordance with section 735(d) of the Act, the ITC notified Commerce of its final determination that an industry in the United States is materially injured within the meaning of section 735(b)(1)(A)(i) of the Act by reason of imports of steel cylinders from India that are sold in the United States at LTFV.⁴ Therefore, in accordance with sections 735(c)(2) and 736 of the Act, Commerce is issuing this AD order. Moreover, because the ITC determined that imports of steel cylinders from India are materially injuring a U.S. industry, unliquidated entries of such merchandise from India entered or withdrawn from warehouse for consumption are subject to the assessment of ADs.

⁴ Id.

Therefore, in accordance with section 736(a)(1) of the Act, Commerce will direct U.S. Customs and Border Protection (CBP) to assess, upon further instruction by Commerce, ADs equal to the amount by which the normal value of the merchandise exceeds the export price (or constructed export price) of the merchandise on all relevant entries of steel cylinders from India. ADs will be assessed on unliquidated entries of steel cylinders entered, or withdrawn from warehouse, for consumption on or after December 1, 2023, the date of publication of the AD Preliminary Determination,⁵ but will not include entries occurring after the expiration of the provisional measures period and before publication of the ITC's final injury determination, as further described below.

⁵ See Certain Non-Refillable Steel Cylinders From India: Preliminary Affirmative Determination of Sales at Less Than Fair Value, Postponement of Final Determination, and Extension of Provisional Measures, 88 FR 83906 (December 1, 2023) (AD Preliminary Determination).

Continuation of Suspension of Liquidation and Cash Deposits—AD

Except as noted in the “Provisional Measures—AD” section of this notice, in accordance with section 736 of the Act, Commerce intends to instruct CBP to continue to suspend liquidation on all relevant entries of steel cylinders from India. These instructions suspending liquidation will remain in effect until further notice.

Commerce also intends to instruct CBP to require cash deposits equal to the estimated weighted-average dumping margins indicated in the table below, adjusted by the relevant subsidy offsets. Accordingly, effective on the date of publication in the Federal Register of the notice of the ITC's final affirmative injury determination, CBP will require, at the same time as importers would normally deposit estimated customs duties on subject merchandise, a cash deposit equal to the rates listed in the table below. The all-others rate applies to all producers or exporters not specifically listed, as appropriate.⁶ Because the estimated weighted-average dumping margin is zero for subject merchandise produced and exported by Inox, entries of shipments of subject merchandise from this producer/exporter combination are excluded from the AD order on subject merchandise from India. This exclusion will not be applicable to merchandise exported to the United States by this respondent in any other producer/exporter combination or by third parties that sourced subject merchandise from the excluded producer/exporter combination.

⁶ As noted below, merchandise produced and exported by Inox India Limited (Inox) is excluded from the AD order. Therefore, the all-others rate applies to entries of any merchandise produced by Inox and exported by any other company or merchandise produced by any other company and exported by Inox.

Estimated Weighted-Average Dumping Margins

The estimated weighted-average dumping margins are as follows:

⁷ In the companion CVD investigation, Commerce calculated a 2.14 percent export subsidy rate for Bhiwadi Cylinders Private Limited and Sapphire (India) Private Limited. See CVD Final Determination IDM at 7-10.

⁸ Merchandise produced and exported by Inox is excluded from the AD order. This exclusion does not apply to merchandise produced by Inox and exported by any other company or merchandise produced by any other company and exported by Inox. Resellers of merchandise produced by Inox are also not entitled to this exclusion.

Exporter/producer | Estimated weighted-average dumping margin (percent) | Cash deposit rate (adjusted for subsidy offsets) (percent) ⁷
Bhiwadi Cylinders Private Limited; Sapphire (India) Private Limited | 6.27 | 4.13
Inox India Limited ⁸ | 0.00 | 0.00
All Others | 6.27 | 4.13

Provisional Measures—AD

Section 733(d) of the Act states that suspension of liquidation pursuant to an affirmative preliminary determination may not remain in effect for more than four months, except where exporters representing a significant proportion of exports of the subject merchandise request that Commerce extend the four-month period to no more than six months. At the request of exporters that accounted for a significant proportion of exports of steel cylinders from India, Commerce extended the four-month period to no more than six months.⁹ Commerce published the AD Preliminary Determination on December 1, 2023. Therefore, the six-month period beginning on the date of the publication of the AD Preliminary Determination ended on May 28, 2024. Pursuant to section 737(b) of the Act, the collection of cash deposits at the rates listed above will begin on the date of publication of the ITC's final injury determination. Therefore, in accordance with section 736(a)(1) of the Act and our practice, Commerce will instruct CBP to terminate the suspension of liquidation and to liquidate, without regard to ADs, unliquidated entries of steel cylinders from India entered, or withdrawn from warehouse, for consumption on May 29, 2024, the first day provisional measures were no longer in effect, until and through the day preceding the date of publication of the ITC's final injury determination in the Federal Register. Suspension of liquidation and the collection of cash deposits will resume on the date of publication of the ITC's final determination in the Federal Register.

⁹ See AD Preliminary Determination, 88 FR at 83908.

CVD Order

As stated above, based on the above-referenced affirmative final determination by the ITC that an industry in the United States is materially injured within the meaning of section 705(b)(1)(A)(i) of the Act by reason of subsidized imports of steel cylinders from India,¹⁰ in accordance with section 705(c)(2) of the Act, Commerce is issuing this CVD order. Moreover, because the ITC determined that imports of steel cylinders from India are materially injuring a U.S. industry, unliquidated entries of subject merchandise from India entered, or withdrawn from warehouse, for consumption, are subject to the assessment of CVDs.

¹⁰ See ITC Notification Letter.

Therefore, in accordance with section 706(a) of the Act, Commerce intends to direct CBP to assess, upon further instruction by Commerce, CVDs on all relevant entries of steel cylinders from India, which are entered, or withdrawn from warehouse, for consumption on or after September 29, 2023, the date of publication of the CVD Preliminary Determination, but will not include entries occurring after the expiration of the provisional measures period and before the publication of the ITC's final injury determination under section 705(b) of the Act, as further described in the “Provisional Measures—CVD” section of this notice.¹¹

¹¹ See Certain Non-Refillable Steel Cylinders from India: Preliminary Affirmative Countervailing Duty Determination and Alignment of Final Determination With Final Antidumping Duty Determination, 88 FR 67231 (September 29, 2023) (CVD Preliminary Determination).

Suspension of Liquidation and Cash Deposits—CVD

In accordance with section 706 of the Act, Commerce intends to instruct CBP to reinstitute the suspension of liquidation of steel cylinders from India, effective on the date of publication of the ITC's final affirmative injury determination in the Federal Register. These instructions suspending liquidation will remain in effect until further notice.

Commerce also intends, pursuant to section 706(a)(1) of the Act, to instruct CBP to require cash deposits equal to the amounts as indicated below. Accordingly, effective on the date of publication of the ITC's final affirmative injury determination in the Federal Register, CBP must require, at the same time as importers would deposit estimated normal customs duties on the subject merchandise, a cash deposit for each entry of subject merchandise equal to the subsidy rates listed below. The all-others rate applies to all producers or exporters not specifically listed below, as appropriate.

¹² Commerce found the following company to be cross-owned with Bhiwadi Cylinders Private Limited: Sapphire (India) Private Limited. See CVD Final Determination, 89 FR at 29297.

Estimated Countervailable Subsidy Rates

Company | Subsidy rate (percent ad valorem)
Bhiwadi Cylinders Private Limited ¹² | 2.48
Inox India Ltd | 2.26
All Others | 2.38

Provisional Measures—CVD

Section 703(d) of the Act states that the suspension of liquidation pursuant to an affirmative preliminary determination may not remain in effect for more than four months. Commerce published the CVD Preliminary Determination on September 29, 2023.¹³ As such, the four-month period beginning on the date of the publication of the CVD Preliminary Determination ended on January 26, 2024.

¹³ See CVD Preliminary Determination.

Therefore, in accordance with section 703(d) of the Act, we instructed CBP to terminate the suspension of liquidation and to liquidate, without regard to CVDs, unliquidated entries of steel cylinders from India entered, or withdrawn from warehouse, for consumption, on or after January 27, 2024, the date on which the provisional measures expired, until and through the day preceding the date of publication of the ITC's final injury determination in the Federal Register. Suspension of liquidation and the collection of cash deposits will resume on the date of publication of the ITC's final determination in the Federal Register.

Establishment of the Annual Inquiry Service Lists

On September 20, 2021, Commerce published the Final Rule in the Federal Register.¹⁴ On September 27, 2021, Commerce also published the Procedural Guidance in the Federal Register.¹⁵ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹⁶

¹⁴ See Regulations to Improve Administration and Enforcement of Antidumping and Countervailing Duty Laws, 86 FR 52300 (September 20, 2021) (Final Rule).

¹⁵ See Scope Ruling Application; Annual Inquiry Service List; and Informational Sessions, 86 FR 53205 (September 27, 2021) (Procedural Guidance).

¹⁶ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹⁷

¹⁷ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹⁸ the new annual inquiry service list will be in place until the following year, when the Opportunity Notice for the anniversary month of the order is published.

¹⁸ See Procedural Guidance, 86 FR at 53206.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹⁹ Accordingly, as stated above, the petitioner and the Government of India should submit their initial entries of appearance after publication of this notice in order to appear in the first annual inquiry service lists for these orders. Pursuant to 19 CFR 351.225(n)(3), the petitioner and the Government of India will not need to resubmit their entries of appearance each year to continue to be included on the annual inquiry service list. However, the petitioner and the Government of India are responsible for making amendments to their entries of appearance during the annual update to the annual inquiry service list in accordance with the procedures described above.

¹⁹ See Final Rule, 86 FR at 52335.

Notification to Interested Parties

This notice constitutes the AD and CVD orders with respect to steel cylinders from India, pursuant to sections 706(a) and 736(a) of the Act. Interested parties can find a list of AD and CVD orders currently in effect at https://enforcement.trade.gov/stats/iastats1.html.

These AD and CVD orders are issued and published in accordance with sections 706(a) and 736(a) of the Act, and 19 CFR 351.211(b).

Dated: June 7, 2024.
Ryan Majerus,
Deputy Assistant Secretary for Policy and Negotiations, performing the non-exclusive functions and duties of the Assistant Secretary for Enforcement and Compliance.

Appendix

Scope of the Orders

The merchandise covered by these orders is certain seamed (welded or brazed), non-refillable steel cylinders meeting the requirements of, or produced to meet the requirements of, U.S. Department of Transportation specification 39, TransportCanada specification 39M, or United Nations pressure receptacle standard ISO 11118 and otherwise meeting the description provided below (non-refillable steel cylinders). The subject non-refillable steel cylinders are portable and range from 100-cubic inch (1.6 liter) water capacity to 1,526-cubic inch (25 liter) water capacity. Subject non-refillable steel cylinders may be imported with or without a valve and/or pressure release device and are unfilled at the time of importation. Non-refillable steel cylinders filled with pressurized air otherwise meeting the physical description above are covered by these orders.

Specifically excluded are seamless non-refillable steel cylinders.

The merchandise subject to these orders is properly classified under statistical reporting numbers 7311.00.0060 and 7311.00.0090 of the Harmonized Tariff Schedule of the United States (HTSUS). The merchandise may also enter under HTSUS statistical reporting numbers 7310.29.0030 and 7310.29.0065. Although the HTSUS statistical reporting numbers are provided for convenience and customs purposes, the written description of the merchandise is dispositive.

[FR Doc. 2024-13040 Filed 6-12-24; 8:45 am]

BILLING CODE 3510-DS-P